NUCLEAR REGULATORY COMMISSION

[NRC-2015-0088]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from March 19, 2015 to April 1, 2015. The last biweekly notice was published on March 31, 2015.

DATES: Comments must be filed by May 14, 2015. A request for a hearing must be filed by June 15, 2015.

ADDRESSES: You may submit comments by any of the following methods (unless this document describes a different method for submitting comments on a specific subject):

• Federal Rulemaking Web site: Go to http://www.regulations.gov and search for Docket ID NRC-2015-0088. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Angela Baxter, Office of Nuclear Reactor Regulation, U.S. Nuclear Regulatory Commission, Washington DC 20555-0001; telephone: 301-415-2976, email: Angela.Baxter@nrc.gov.

SUPPLEMENTARY INFORMATION:

I. Obtaining Information and Submitting Comments

A. Obtaining Information

Please refer to Docket ID NRC-2015-0088 when contacting the NRC about the availability of information for this action. You may obtain publicly-available information related to this action by any of the following methods:

• Federal rulemaking Web site: Go to http://www.regulations.gov and search for Docket ID NRC-2015-0088.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0088, facility name, unit number(s), application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity to Request a Hearing and Petition for Leave to Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Exelon Generation Company, LLC, Docket Nos. 50-352 and 50-353, Limerick Generating Station, Units 1 and 2, Montgomery County, Pennsylvania

Date of amendment request: February 2, 2015. A publicly-available version is in ADAMS under Accession No. ML15036A486.

Description of amendment request: The proposed amendment would modify several Technical Specification Limiting Conditions for Operation (LCOs) and Surveillance Requirements (SRs) to allow secondary containment access openings to be opened intermittently under administrative control.

Basis for proposed no significant hazards consideration determination: As required by 10 CFR 50.91(a), the licensee has provided its analysis of the issue of no significant hazards consideration, which is presented below:

1. Do the proposed changes involve a significant increase in the probability or consequences of an accident previously evaluated?

Response: No. The proposed changes allow temporary conditions during which the secondary containment LCO and SRs are not met. The secondary containment is not an initiator of any accident previously evaluated. As a result, the probability of any accident previously evaluated is not increased. The consequences of an accident previously evaluated while utilizing the proposed changes are no different than the consequences of an accident while utilizing the existing 4-hour allowed outage time for an inoperable reactor enclosure secondary containment. As a result, the consequences of an accident previously evaluated are not significantly increased.

Therefore, the proposed changes do not involve a significant increase in the probability or consequences of an accident previously evaluated.

2. Do the proposed changes create the possibility of a new or different kind of accident from any accident previously evaluated?

Response: No. The proposed changes do not alter the protection system design, create new failure modes, or change any modes of operation. The proposed changes do not involve a physical alteration of the plant, and no new or different kind of equipment will be installed. Consequently, there are no new initiators that could result in a new or different kind of accident.

Therefore, the proposed changes do not create the possibility of a new or different kind of accident from any accident previously evaluated.

3. Do the proposed changes involve a significant reduction in a margin of safety?

Response: No. The proposed changes allow temporary conditions during which the secondary containment LCO and SRs are not met. Temporary conditions in which the secondary containment vacuum is below the required limit are acceptable provided the conditions do not affect the ability of the Standby Gas Treatment System to establish the required secondary containment vacuum. This condition is incorporated in the proposed changes by requiring the condition to be momentary or under administrative control such that the conditions equivalent to the design condition can be quickly restored should secondary containment vacuum be required. Therefore, the safety function of the secondary containment is not affected. The allowance for both an inner and outer secondary containment access door to be open simultaneously for entry and exit does not affect the safety function of the secondary containment as the doors are promptly closed after entry or exit, thereby restoring the secondary containment boundary.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Esquire, Vice President and Deputy General Counsel, Exelon Generation Company, LLC, 4300 Winfield Road, Warrenville, IL 60555.

NRC Branch Chief: Doulas A. Broaddus.

Exelon Generation Company, LLC, and PSEG Nuclear LLC, Docket Nos. 50-277 and 50-278, Peach Bottom Atomic Power Station (PBAPS), Units 2 and 3, York and Lancaster Counties, Pennsylvania

Date of amendment request: February 23, 2015. A publicly-available version is in ADAMS under Accession No. ML15055A506.

Description of amendment request: The proposed amendment would modify a Technical Specification Limiting Condition for Operation (LCO) and certain Surveillance Requirements (SRs) to allow secondary containment access openings to be opened intermittently under administrative control.

Basis for proposed no significant hazards consideration determination: As required by 10 CFR 50.91(a), the licensee has provided its analysis of the issue of no significant hazards consideration, which is presented below:

1. Do the proposed changes involve a significant increase in the probability or consequences of an accident previously evaluated?

Response: No. The proposed changes allow temporary conditions during which the secondary containment LCO and certain SRs are not met. The secondary containment is not an initiator of any accident previously evaluated. As a result, the probability of any accident previously evaluated is not increased. The consequences of an accident previously evaluated while utilizing the proposed changes are no different than the consequences of an accident while utilizing the existing 4-hour Completion Time for an inoperable secondary containment. As a result, the consequences of an accident previously evaluated are not significantly increased.

Therefore, the proposed changes do not involve a significant increase in the probability or consequences of an accident previously evaluated.

2. Do the proposed changes create the possibility of a new or different kind of accident from any accident previously evaluated?

Response: No. The proposed changes do not alter the protection system design, create new failure modes, or change any modes of operation. The proposed changes do not involve a physical alteration of the plant; and no new or different kind of equipment will be installed. Consequently, there are no new initiators that could result in a new or different kind of accident.

Therefore, the proposed changes do not create the possibility of a new or different kind of accident from any accident previously evaluated.

3. Do the proposed changes involve a significant reduction in a margin of safety?

Response: No. The proposed changes allow temporary conditions during which the secondary containment LCO and certain SRs are not met. Temporary conditions in which the secondary containment is open is acceptable provided the conditions do not affect the ability of the Standby Gas Treatment System to create a lower pressure in the secondary containment than in the outside environment if required. This condition is incorporated in the proposed changes by requiring the condition to be under administrative control such that the conditions equivalent to the design condition can be quickly restored should secondary containment vacuum be required. Therefore, the safety function of the secondary containment is not affected. The allowance for both an inner and outer secondary containment door to be open simultaneously for entry and exit does not affect the safety function of the secondary containment as the doors are promptly closed after entry or exit, thereby restoring the secondary containment boundary. The ability to open secondary containment access openings under administrative control, even if it means the secondary containment boundary is temporarily not intact, is acceptable due to the low probability of an event that requires secondary containment during the short time in which the secondary containment is open and the presence of administrative controls to rapidly close the opening.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Esquire, Vice President and Deputy General Counsel, Exelon Generation Company, LLC, 4300 Winfield Road, Warrenville, IL 60555.

NRC Branch Chief: Douglas A. Broaddus.

Northern States Power Company—Minnesota, Docket Nos. 50-282 and 50-306, Prairie Island Nuclear Generating Plant, Units 1 and 2, Goodhue County, Minnesota

Date of amendment request: December 11, 2014. A publicly-available version is in ADAMS under Accession No. ML14349A749.

Brief description of amendment request: The proposed amendments would revise the technical specification (TS) 3.3.3, “EM [Event Monitoring] Instrumentation,” to add the Steam Generator Water Level—Narrow Range Instruments to Table 3.3.3-1. In addition, the amendments would revise Appendix B, “Additional Condition,” of the Renewed Operating License for each unit regarding implementation of License Amendment Nos. 206 (Unit 1) and 193 (Unit 2) for Alternative Source Term (AST), and removes two AST Additional Conditions for each unit that have been fulfilled.

Basis for proposed no significant hazards consideration determination: As required by 10 CFR 50.91(a), the licensee provided its analysis of the issue of no significant hazards consideration, which is presented below:

1. Do the proposed amendments involve a significant increase in the probability or consequences of an accident previously evaluated?

Response: No.

The license amendment requests propose to add Steam Generator Water Level (narrow range) Instrumentation to Technical Specification Event Monitoring Instrumentation; revise license Additional Conditions to exclude Steam Generator Water Level (narrow range) Instrument implementation requirements from Alternative Source Term license amendment implementation; and remove Alternative Source Term amendment implementation Additional Conditions which have been fulfilled.

The Steam Generator Water Level (narrow range) Instrumentation is not an accident initiator and therefore addition of this instrumentation to the Technical Specifications does not increase the probability of an accident. Addition of this instrumentation to the Technical Specifications will bring it under the controls and testing requirements of the Technical Specifications. The proposed change will not increase the consequences of previously-evaluated accidents because the inclusion of these instruments in the technical specification improves their reliability to perform during a postulated accident. Therefore, the proposed Technical Specification changes do not involve a significant increase in the probability or consequences of an accident previously evaluated.

The Alternative Source Term license amendment was previously analyzed and approved for implementation. The proposed Additional Condition revision to exclude Steam Generator Water Level (narrow range) Instrumentation implementation requirements from Alternative Source Term license amendment implementation clarifies implementation requirements and allows completion of implementation activities. Since the Alternative Source Term amendment was previously approved, this change does not increase the probability or consequences of a previously evaluated accident.

Removal of license Additional Conditions which have been fulfilled is an administrative change and thus this change does not increase the probability or consequences of a previously evaluated accident.

Therefore, the proposed changes do not involve a significant increase in the probability or consequences of an accident previously evaluated.

2. Do the proposed amendments create the possibility of a new or different kind of accident from any accident previously evaluated?

Response: No.

The license amendment requests propose to add Steam Generator Water Level (narrow range) Instrumentation to Technical Specification Event Monitoring Instrumentation; revise license Additional Conditions to exclude Steam Generator Water Level (narrow range) Instrument implementation requirements from Alternative Source Term license amendment implementation; and remove Alternative Source Term amendment implementation Additional Conditions which have been fulfilled.

The proposed Technical Specification changes and Additional Condition changes and the resulting instrument upgrades do not create new failure modes or mechanisms and do not change plant conditions from which some new material interaction may create a new or different type of accident. Thus, the Technical Specification and license Additional Condition changes do not create new failure modes or mechanisms, nor do they generate new accident precursors.

Therefore, the proposed changes do not create the possibility of a new or different kind of accident from any previously evaluated.

The proposed removal of fulfilled Additional Conditions is an administrative change and thus does not create the possibility of a new or different kind of accident.

3. Do the proposed amendments involve a significant reduction in a margin of safety?

Response: No.

The license amendment requests propose to add Steam Generator Water Level (narrow range) Instrumentation to Technical Specification Event Monitoring Instrumentation; revise license Additional Conditions to exclude Steam Generator Water Level (narrow range) Instrument implementation requirements from Alternative Source Term license amendment implementation; and remove Alternative Source Term amendment implementation Additional Conditions which have been fulfilled.

Addition of this instrumentation to the Technical Specifications will bring it under the controls and testing requirements of the Technical Specifications. The proposed change will not increase the consequences of previously evaluated accidents because instrument upgrade and the inclusion of these instruments in the Technical Specifications improve their reliability to perform during a postulated accident.

Therefore, the proposed changes do not involve a significant reduction in a margin of safety.

The Alternative Source Term license amendment was previously analyzed and approved for implementation. The proposed Additional Condition revision to exclude Steam Generator Water Level (narrow range) Instrumentation implementation requirements from Alternative Source Term license amendment implementation clarifies implementation requirements and allows completion of implementation activities. Since the Alternative Source Term [amendment] was previously approved, the changes proposed in this license amendment do not involve a significant reduction in a margin of safety.

The proposed removal of fulfilled Additional Conditions is administrative in nature and thus does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401.

NRC Branch Chief: David L. Pelton.

PSEG Nuclear LLC, Docket No. 50-354, Hope Creek Generating Station, Unit 1, Salem County, New Jersey

PSEG Nuclear LLC, Docket Nos. 50-272 and 50-311, Salem Nuclear Generating Station, Unit Nos. 1 and 2, Salem County, New Jersey

Date of amendment request: December 9, 2014. A publicly-available version is in ADAMS under Accession No. ML14343A926.

Description of amendment request: The proposed amendments would revise the Public Service Electric and Gas Nuclear LLC (PSEG) Environmental Protection Plans (Non-Radiological), Appendix B to the renewed facility operating license (FOL) numbers DPR-70 and DPR-75 for Salem Nuclear Generating Station, Units 1 and 2, and the renewed FOL number NPF-57 for Hope Creek Generating Station. The proposed changes will simplify the Aquatic Monitoring section of Appendix B, modify the criteria for reporting Unusual or Important Environmental Events, and will clarify that PSEG Nuclear must adhere to the currently applicable Biological Opinion.

Basis for proposed no significant hazards consideration determination: As required by 10 CFR 50.91(a), the licensee has provided its analysis of the issue of no significant hazards consideration, which is presented below, with NRC staff edits in square brackets:

1. Do the proposed changes involve a significant increase in the probability or consequences of an accident previously evaluated?

Response: No.

The [Environmental Protection Plan] EPP provides for protection of non-radiological environmental values during operation of the nuclear facility.

The proposed changes do not have any impact on structures, systems and components (SSCs) of the plant, and no effect on plant operations. The proposed changes do not impact any accident initiators, or analyzed events, or assumed mitigation of accident or transient events. The proposed changes do not result in the addition or removal of any equipment.

Therefore, these proposed changes do not represent a significant increase in the probability or consequences of an accident previously evaluated.

2. Do the proposed changes create the possibility of a new or different kind of accident from any accident previously evaluated?

Response: No.

The proposed changes are administrative in nature and do not involve a modification to the physical configuration of the plant (i.e., no new equipment will be installed) or change in the methods governing normal plant operation. The proposed changes will not impose any new or different requirements or introduce a new accident initiator, accident precursor, or malfunction mechanism.

Therefore, the proposed changes do not create the possibility of a new or different kind of accident from any accident previously evaluated.

3. Do the proposed changes involve a significant reduction in a margin of safety?

Response: No.

The proposed changes are administrative in nature.

There is no change to any design basis, licensing basis or safety limit, and no change to any parameters; consequently no safety margins are affected.

Therefore, the proposed changes do not involve a significant reduction in a margin of safety.

Based upon the above, PSEG concludes that the proposed change presents no significant hazards consideration under the standards set forth in 10 CFR 50.92(c), and, accordingly, a finding of “no significant hazards consideration” is justified.

The NRC staff has reviewed the licensee's analysis and, based on this review, and with the changes noted above in square brackets, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

NRC Branch Chief: Douglas A. Broaddus.

South Carolina Electric & Gas Company, Docket Nos.: 52-027 and 52-028, Virgil C. Summer Nuclear Station (VCSNS) Units 2 and 3, Fairfield County, South Carolina

Date of amendment request: September 25, 2014; as supplemented by letter dated March 13, 2015. Publicly-available versions are in ADAMS under Accession Nos. ML14268A388 and ML15072A306, respectively.

Description of amendment request: The proposed change would amend Combined License Nos. NPF-93 and NPF-94 for the VCSNS Units 2 and 3 by allowing changes to adjust the concrete wall thickness tolerances of four Nuclear Island walls found in Tier 1. In addition, the changes include an update to Tier 2 Subsection 3.8.3.6.1 to address the exceeded American Concrete Institute (ACI) 117 tolerance for the four affected walls.

Basis for proposed no significant hazards consideration determination: As required by 10 CFR 50.91(a), the licensee has provided its analysis of the issue of no significant hazards consideration, which is presented below:

1. Does the proposed amendment involve a significant increase in the probability or consequences of an accident previously evaluated?

Response: No.

As indicated in the Updated Final Safety Analysis Report Subsection 3.8.3.1, the containment internal structures and associated modules support the reactor coolant system components and related piping systems and equipment. The increase in tolerance associated with the concrete thickness of four of these containment internal structure walls do not involve any accident initiating components or events, thus leaving the probabilities of an accident unaltered. The increased tolerance does not adversely affect any safety-related structures or equipment nor does the increased tolerance reduce the effectiveness of a radioactive material barrier. Thus, the proposed changes would not affect any safety-related accident mitigating function served by the containment internal structures.

Therefore, the proposed amendment does not involve a significant increase in the probability or consequences of an accident previously evaluated.

2. Does the proposed amendment create the possibility of a new or different kind of accident from any accident previously evaluated?

Response: No.

The proposed tolerance increases do not change the performance of the affected containment internal structures. As demonstrated by the continued conformance to the applicable codes and standards governing the design of the structures, the walls with an increased concrete thickness tolerance continue to withstand the same effects as previously evaluated. There is no change to the design function of the affected modules and walls, and no new failure mechanisms are identified as the same types of accidents are presented to the walls before and after the change.

Therefore, the proposed amendment does not create the possibility of a new or different kind of accident.

3. Does the proposed amendment involve a significant reduction in a margin of safety?

Response: No.

The proposed change to increase the concrete thickness tolerance does not alter any design function, design analysis, or safety analysis input or result, and sufficient margin exists to justify a departure from the standards identified in the underlying Tier 2 information with respect to the four affected walls. As such, because the system continues to respond to design basis accidents in the same manner as before without any changes to the expected response of the structure, no safety analysis or design basis acceptance limit/criterion is challenged or exceeded by the proposed changes. Accordingly, no safety margin is reduced by the increase of the wall concrete thickness tolerance.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence Burkhart.

Southern Nuclear Operating Company, Inc. Docket Nos. 52-025 and 52-026, Vogtle Electric Generating Plant Units 3 and 4, Burke County, Georgia

Date of amendment request: March 6, 2015. A publicly-available version is in ADAMS under Accession No. ML15065A362.

Description of amendment request: The proposed amendment and exemption identify portions of the licensing basis that would more appropriately be classified as Tier 2, specifically the Tier 2* information on Fire Area Figures 9A-1, 9A-2, 9A-3, 9A-4, 9A-5, and 9A-201 in the Vogtle Electric Generating Plant Units 3 and 4 Updated Final Safety Analysis Report. With the reclassification, prior U.S. Nuclear Regulatory Commission approval would continue to be required for any safety significant changes to the Fire Area Figures because any revisions to that information would follow the Tier 2 change process provided in 10 CFR part 52, Appendix D, Section VIII.B.5.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would reclassify Fire Area Figures Tier 2* information. The proposed amendment does not modify the design, construction, or operation of any plant structures, systems, or components (SSCs), nor does it change any procedures or method of control for any SSCs. Because the proposed amendment does not change the design, construction, or operation of any SSCs, it does not adversely affect any design function as described in the Updated Final Safety Analysis Report.

Therefore, the proposed amendment does not affect the probability of an accident previously evaluated. Similarly, because the proposed amendment does not alter the design or operation of the nuclear plant or any plant SSCs, the proposed amendment does not represent a change to the radiological effects of an accident, and therefore, does not involve an increase in the consequences of an accident previously evaluated.

2. Does the proposed amendment create the possibility of a new or different kind of accident from any accident previously evaluated?

Response: No.

The proposed amendment would reclassify Fire Area Figures Tier 2* information. The proposed amendment is not a modification, addition to, or removal of any plant SSCs. Furthermore, the proposed amendment is not a change to procedures or method of control of the nuclear plant or any plant SSCs. The only impact of this activity is the reclassification of information in the Updated Final Safety Analysis Report. Because the proposed amendment only reclassifies information and does not change the design, construction, or operation of the nuclear plant or any plant operations, the amendment does not create the possibility of a new or different kind of accident from any accident previously evaluated.

3. Does the proposed amendment involve a significant reduction in a margin of safety?

Response: No.

The proposed amendment would reclassify Fire Area Figures Tier 2* information. The proposed amendment is not a modification, addition to, or removal of any plant SSCs. Furthermore, the proposed amendment is not a change to procedures or method of control of the nuclear plant or any plant SSCs. The only impact of this activity is the reclassification of information in the Updated Final Safety Analysis Report.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North Birmingham, AL 35203-2015.

NRC Branch Chief: Lawrence Burkhart.

ZionSolutions LLC, Docket Nos. 50-295 and 50-304, Zion Nuclear Power Station (Zion), Units 1 and 2, Lake County, Illinois

Date of amendment request: December 19, 2014, as supplemented on February 26, 2015. Publicly available versions are in ADAMS under Accession Nos. ML15005A336 and ML15061A230, respectively.

Description of amendment request: The proposed amendment would add License Condition 2.C (17) that approves the License Termination Plan (LTP) and establishes the criteria for determining when changes to the LTP require prior the U.S. Nuclear Regulatory Commission (NRC) approval.

Basis for proposed no significant hazards consideration determination: As required by 10 CFR 50.91(a), the licensee has provided its analysis of the issue of no significant hazards consideration, which is presented below:

(1) Does the change involve a significant increase in the probability or consequences of an accident previously evaluated?

The only remaining accident after fuel transfer is completed in January 2015 is the Radwaste handling accident. Calculations were performed to determine the dose at the Exclusion Area Boundary that would result from dropping a High Integrity Container in the former Interim Radwaste Storage Facility (IRSF) such that its entire contents of radioactive, dewatered resin escape. A fraction of the escaped resin is non mechanistically assumed to be released as airborne radioactivity and pass from the IRSF directly to the environment, resulting in off-site dose consequences. The solid-to-aerosol release fraction is assumed to be the worst case non-mechanistic, mechanically initiated release fraction. The whole body and inhalation dose at the closest point on the Exclusion Area Boundary from the IRSF are then calculated.

The results of the radiological dose consequences for an accident involving the failure of a High Integrity Container show that the projected doses are insignificant in comparison to the 10 CFR 100 guidelines, and are less than the EPA [Environmental Protection Agency] PAGs [protective action guidelines]. The projected dose at the Low Population Zone would be less than at the Exclusion Area Boundary and, since this accident involves an instantaneous release, it is also within the 10 CFR 100 guidelines.

The proposed change does not affect the boundaries used to evaluate compliance with liquid or gaseous effluent limits, and has no impact on plant operations. The proposed changes do not have an adverse impact on the remaining decommissioning activities or any decommissioning related postulated accident consequences.

The proposed changes related to the approval of the LTP do not affect operating procedures or administrative controls that have the function of preventing or mitigating the remaining decommissioning design basis accident.

Therefore, the proposed changes do not involve a significant increase in the probability or consequences of any accident previously evaluated.

(2) Does the change create the possibility of a new or different kind of accident from any accident previously evaluated?

The accident analysis for the facility related to decommissioning activities is described in the DSAR [defueled safety analysis report]. The requested license amendment is consistent with the plant activities described in the DSAR and PSDAR [post-shutdown decommissioning activities report]. Thus, the proposed changes do not affect the remaining plant systems, structures, or components in a way not previously evaluated.

There are sections of the LTP that refer to the decommissioning activities still remaining (e.g.; removal of large components, structure removal, etc.). However, these activities are performed in accordance with approved work packages/steps and undergo a 10 CFR 50.59 screening prior to initiation. The proposed amendment merely makes mention of these processes and does not bring about physical changes to the facility.

Therefore, the facility conditions for which the remaining postulated accident has been evaluated is still valid and no new accident scenarios, failure mechanisms, or single failures are introduced by this amendment. The system operating procedures are not affected. Therefore, the proposed changes will not create the possibility of a new or different kind of accident from any accident previously evaluated.

(3) Does the change involve a significant reduction in a margin of safety?

The LTP is a plan for demonstrating compliance with the radiological criteria for license termination as provided in 10 CFR 20.1402 (Reference 5). The margin of safety defined in the statements of consideration for the final rule on the Radiological Criteria for License Termination is described as the margin between the 100 mrem/yr public dose limit established in 10 CFR 20.1301 for licensed operation and the 25 mrem/yr dose limit to the average member of the critical group at a site considered acceptable for unrestricted use (one of the criteria of 10 CFR 20.1402). This margin of safety accounts for the potential effect of multiple sources of radiation exposure to the critical group. Since the License Termination Plan is designed to comply with the radiological criteria for license termination for unrestricted use, the LTP supports this margin of safety.

In addition, the LTP provides the methodologies and criteria that will be used to perform remediation activities of residual radioactivity to demonstrate compliance with the ALARA [as low as reasonably achievable] criterion of 10 CFR 20.1402.

Additionally, the LTP is designed with recognition that (a) the methods in MARSSIM (Multi-Agency Radiation Survey and Site Investigation Manual) (Reference 6) and (b) the building surface contamination levels are not directly applicable to use with complex nonstructural components. Therefore, the LTP states that nonstructural components remaining in buildings (e.g., pumps, heat exchangers, etc.) will be evaluated against the criteria of Regulatory Guide 1.86 (Reference 7) to determine if the components can be released for unrestricted use. The LTP also states that materials, surveyed and evaluated as a part of normal decommissioning activities and prior to implementation of the final radiation surveys, will be surveyed for release using current site procedures to demonstrate compliance with the “no detectable” criteria. Such materials that do not pass these criteria will be controlled as contaminated.

Also, as previously discussed, the bounding accident for decommissioning is the resin container accident. Since the bounding decommissioning accident results in more airborne radioactivity than can be released from other decommissioning events, the margin of safety associated with the consequences of decommissioning accidents is not reduced by this activity.

Thus, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Russ Workman, Deputy General Counsel, EnergySolutions, 423 West 300 South, Suite 200, Salt Lake City, UT 84101.

NRC Branch Chief: Bruce Watson.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Arizona Public Service Company, et al., Docket Nos. STN 50-528, STN 50-529, and STN 50-530, Palo Verde Nuclear Generating Station, Unit Nos. 1, 2, and 3, Maricopa County, Arizona

Date of application for amendment: November 20, 2013, as supplemented by letters dated November 20, 2013, and January 16 and December 19, 2014.

Brief description of amendment: The amendment modified Technical Specification (TS) Surveillance Requirement (SR) 3.1.4.1 utilizing Westinghouse Electric Company LLC's topical report WCAP-16011-NP-A, Revision 0, “Startup Test Activity Reduction [STAR] Program,” February 2005. The changes are consistent with NRC-approved Technical Specification Task Force (TSTF) Standard Technical Specification Change Traveler TSTF-486, Revision 2. The use of WCAP-16011-NP-A is justified by the licensee in WCAP-17787-NP, Revision 0, “Palo Verde Nuclear Generating Station STAR Program Implementation Report,” August 2013.

The amendments also modify SR 3.1.4.2 not to require the moderator temperature coefficient (MTC) determination if the result of the MTC determination required in TS 3.1.4.1 is within a certain tolerance of the corresponding design value. This change is based on the methods described in Combustion Engineering Owners Group Report CE NPSD-911-A and Amendment 1-A, “Analysis of Moderator Temperature Coefficients in Support of a Change in the Technical Specifications End-of-Cycle Negative MTC Limits,” September 2000.

Date of issuance: March 30, 2015.

Effective date: As of the date of issuance and shall be implemented within 90 days from the date of issuance.

Amendment No.: Unit 1-195; Unit 2-195; Unit 3-195. A publicly-available version is in ADAMS under Accession No. ML15070A124; documents related to these amendments are listed in the Safety Evaluation enclosed with the amendments.

Renewed Facility Operating License Nos. NPF-41, NPF-51, and NPF-74: The amendment revised the Operating Licenses and Technical Specifications.

Date of initial notice in Federal Register: February 27, 2014 (79 FR 11146). The supplemental letters dated January 16 and December 19, 2014, provided additional information that clarified the application, did not expand the scope of the application as originally noticed, and did not change the staff's original proposed no significant hazards consideration determination as published in the Federal Register.

The Commission's related evaluation of the amendments is contained in a Safety Evaluation dated March 30, 2015.

No significant hazards consideration comments received: No.

Duke Energy Carolinas, LLC, Docket Nos. 50-413 and 50-414, Catawba Nuclear Station, Units 1 and 2, York County, South Carolina, Duke Energy Carolinas, LLC, Docket Nos. 50-369 and 50-370, McGuire Nuclear Station, Units 1 and 2, Mecklenburg County, North Carolina

Date of application for amendments: November 14, 2013, as supplemented by letters dated June 27, and November 10, 2014.

Brief description of amendments: The amendments approve the use of DPC-3001-NE-P, Revision 1, “Multidimensional Reactor Transients and Safety Analysis Physics Parameters Methodology.”

Date of issuance: March 25, 2015.

Effective date: This license amendment is effective as of its date of issuance and shall be implemented within 30 days of issuance.

Amendment Nos.: 274, 270, 277, and 257. A publicly-available version of the application is in ADAMS under Accession No. ML15027A366; documents related to these amendments are listed in the Safety Evaluation enclosed with the amendments.

Renewed Facility Operating License Nos. NPF-35, NPF-52, NPF-9, and NPF-17: Amendments revised the licenses.

Date of initial notice in Federal Register: February 27, 2014 (79 FR 11147). The supplemental letters dated June 27, and November 10, 2014, provided additional information that clarified the application, did not expand the scope of the application as originally noticed, and did not change the staff's original proposed no significant hazards consideration determination as published in the Federal Register.

The Commission's related evaluation of the amendments is contained in a Safety Evaluation dated March 25, 2015.

No significant hazards consideration comments received: No.

Duke Energy Florida, Inc., et al., Docket No. 50-302, Crystal River Unit 3 Nuclear Generating Plant, Citrus County, Florida

Date of amendment request: September 26, 2013, as supplemented by letters dated March 28, May 23, and October 6, 2014.

Brief description of amendment: The amendment revised the facility's emergency plan and emergency action level scheme to reflect the low likelihood of any credible accident at the facility in its permanently shutdown and defueled condition that could result in radiological releases requiring offsite protective measures.

Date of issuance: March 31, 2015.

Effective date: As of the date of issuance and shall be implemented within 60 days of issuance.

Amendment No.: 246. A publicly-available version is in ADAMS under Accession No. ML15027A209; documents related to this amendment are listed in the Safety Evaluation enclosed with the amendment.

Facility Operating License No. DPR-72: Amendment revised the emergency plan and the emergency action levels.

Date of initial notice in Federal Register: January 7, 2014 (79 FR 857). The supplemental letters dated March 28, May 23, and October 6, 2014, provided additional information that clarified the application, did not expand the scope of the application as originally noticed, and did not change the staff's original proposed no significant hazards consideration determination as published in the Federal Register.

The Commission's related evaluation of the amendment is contained in a Safety Evaluation dated March 31, 2015.

No significant hazards consideration comments received: No.

Energy Northwest, Docket No. 50-397, Columbia Generating Station, Benton County, Washington

Date of application for amendment: March 24, 2014, as supplemented by letters dated May 8, August 28, November 6, and December 15, 2014.

Brief description of amendment: The amendment revised Technical Specification (TS) Table 3.3.1.1-1, “Reactor Protection System Instrumentation,” Functions 7.a and 7.b to update Scram Discharge Volume instrumentation nomenclature, add a surveillance requirement (SR), which was previously omitted, and add footnotes to an SR consistent with TS Task Force (TSTF) change traveler TSTF-493, Revision 4, “Clarify Application of Setpoint Methodology for LSSS [Limiting Safety System Settings] Functions,” Option A. The notice of availability of the models for plant-specific adoption of TSTF-493, Revision 4, was announced in the Federal Register on May 11, 2010 (75 FR 26294).

Date of issuance: March 27, 2015.

Effective date: As of its date of issuance and shall be implemented prior to restarting from refueling outage R-22, scheduled for spring 2015.

Amendment No.: 232. A publicly-available version is in ADAMS under Accession No. ML15063A010; documents related to this amendment are listed in the Safety Evaluation enclosed with the amendment.

Renewed Facility Operating License No. NPF-21: The amendment revised the Facility Operating License and Technical Specifications.

Date of initial notice in Federal Register: July 22, 2014 (79 FR 42544). The supplemental letters dated August 28, November 6, and December 15, 2014, provided additional information that clarified the application, did not expand the scope of the application as originally noticed, and did not change the staff's original proposed no significant hazards consideration determination as published in the Federal Register.

The Commission's related evaluation of the amendment is contained in a Safety Evaluation dated March 27, 2015.

No significant hazards consideration comments received: No.

Energy Northwest, Docket No. 50-397, Columbia Generating Station, Benton County, Washington

Date of application for amendment: June 25, 2014.

Brief description of amendment: The amendment revised the Columbia Generating Station Cyber Security Plan (CSP) Milestone 8 full implementation date as set forth in the CSP Implementation Schedule.

Date of issuance: March 27, 2015.

Effective date: As of its date of issuance and shall be implemented within 30 days from the date of issuance.

Amendment No.: 231. A publicly-available version is in ADAMS under Accession No. ML15042A464; documents related to this amendment are listed in the Safety Evaluation enclosed with the amendment.

Renewed Facility Operating License No. NPF-21: The amendment revised the Facility Operating License.

Date of initial notice in Federal Register: October 7, 2014 (79 FR 60518).

The Commission's related evaluation of the amendment is contained in a Safety Evaluation dated March 27, 2015.

No significant hazards consideration comments received: No.

Entergy Operations, Inc., Docket No. 50-368, Arkansas Nuclear One, Unit No. 2 (ANO-2), Pope County, Arkansas

Date of application for amendment: March 26, 2013, as supplemented by letters dated December 12, 2013, and May 12, August 19, October 22, and December 5, 2014.

Brief description of amendment: The amendment revised the ANO-2 Technical Specification (TS) requirements for end states associated with the implementation of the NRC-approved Topical Report NPSD-1186, Revision 0, “Technical Justification for the Risk Informed Modification to Selected Required Action End States for CEOG [Combustion Engineering Owners Group] Member PWRs [Pressurized-Water Reactors],” as well as Required Actions revised by a specific Note in TS Task Force (TSTF) change traveler TSTF-422, Revision 2, “Change in Technical Specifications End States (CE NPSD-1186).” The Notice of Availability for TSTF-422, Revision 2, was announced in the Federal Register on April 7, 2011 (76 FR 19510).

Date of issuance: March 31, 2015.

Effective date: As of the date of issuance and shall be implemented within 90 days from the date of issuance.

Amendment No.: 301. A publicly-available version is in ADAMS under Accession No. ML15068A319; documents related to this amendment are listed in the Safety Evaluation enclosed with the amendment.

Renewed Facility Operating License No. NPF-6: Amendment revised the Technical Specifications/license.

Date of initial notice in Federal Register: July 23, 2013 (78 FR 44172). The supplemental letters dated December 12, 2013, and May 12, August 19, October 22, and December 5, 2014, provided additional information that clarified the application, did not expand the scope of the application as originally noticed, and did not change the staff's original proposed no significant hazards consideration determination as published in the Federal Register.

The Commission's related evaluation of the amendment is contained in a Safety Evaluation dated March 31, 2015.

No significant hazards consideration comments received: No.

Exelon Generation Company, LLC, Docket Nos. 50-254 and 50-265, Quad Cities Nuclear Power Station, Units 1 and 2, Rock Island County, Illinois

Date of application for amendments: June 10, 2013, as supplemented by letters dated October 24, 2013, March 5, 2014, and February 4, 2015.

Brief description of amendments: The amendment revises the technical specifications (TSs), Surveillance Requirements 3.8.4.2 and 3.8.4.5 to add new acceptance criteria for total battery connection resistance.

Date of issuance: March 30, 2015.

Effective date: As of the date of issuance and shall be implemented within 30 days from the date of issuance.

Amendment Nos.: 256 and 251. A publicly-available version is in ADAMS under Accession No. ML15056A772. Documents related to these amendments are listed in the Safety Evaluation enclosed with the amendments.

Renewed Facility Operating License Nos. DPR-29 and DPR-30: The amendments revised the TSs and License.

Date of initial notice in Federal Register: September 3, 2013 (78 FR 54283). The October 24, 2013, March 5, 2014, and February 4, 2015, supplements contained clarifying information and did not change the NRC staff's initial proposed finding of no significant hazards consideration.

The Commission's related evaluation of the amendments is contained in a Safety Evaluation dated March 30, 2015.

No significant hazards consideration comments received: No.

Exelon Generation Company, LLC, Docket No. 50-219, Oyster Creek Nuclear Generating Station (OCNGS), Ocean County, New Jersey

Date of application for amendment: December 19, 2013, as supplemented by letters dated January 31, 2014, and November 3, 2014.

Brief description of amendment: The amendment revised Renewed Facility Operating License No. DPR-16 for OCNGS. Specifically, the changes implement the use of an alternative measure that required prior NRC review and approval pursuant to Title 10 of the Code of Federal Regulations (10 CFR), Section 73.55(r), related to controlling vital area access for certain portions of the Reactor Building at OCNGS.

Date of Issuance: March 30, 2015.

Effective date: As of the date of issuance and shall be implemented within 60 days.

Amendment No.: 285. A publicly-available version is in ADAMS under Accession No. ML14329A625; documents related to this amendment are listed in the Safety Evaluation enclosed with the amendment.

Renewed Facility Operating License No. DPR-16: The amendment revised the license and technical specifications.

Date of initial notice in Federal Register: May 6, 2014 (79 FR 25901). The supplemental letter dated November 3, 2014, provided additional information that clarified the application, did not expand the scope of the application as originally noticed, and did not change the staff's original proposed no significant hazards consideration determination as published in the Federal Register.

The Commission's related evaluation of this amendment is contained in a Safety Evaluation dated March 30, 2015.

No significant hazards consideration comments received: No.

FirstEnergy Nuclear Operating Company, Docket No. 50-440, Perry Nuclear Power Plant, Unit No. 1, Lake County, Ohio

Date of application for amendment: October 8, 2014, as supplemented by a letter dated February 12, 2015.

Brief description of amendment: The amendment revised the technical specifications (TSs) safety limit minimum critical power ratio value for single recirculation-loop-operation to support the use of GNF-2 fuel during the next operating cycle.

Date of issuance: March 27, 2015.

Effective date: As of the date of issuance and shall be implemented within 30 days.

Amendment No.: 165. A publicly-available version is in ADAMS under Accession No. ML15075A091; documents related to this amendment are listed in the Safety Evaluation enclosed with the amendment.

Facility Operating License No. NPF-58: This amendment revised the TSs and License.

Date of initial notice in Federal Register: February 13, 2015 (80 FR 5819). The February 12, 2015, supplement contained clarifying information and did not change the NRC staff's initial proposed finding of no significant hazards consideration.

The Commission's related evaluation of the amendment is contained in a Safety Evaluation dated March 27, 2015.

No significant hazards consideration comments received: No.

Indiana Michigan Power Company, Docket Nos. 50-315 and 50-316, Donald C. Cook Nuclear Plant, Units 1 and 2, Berrien County, Michigan

Date of amendment requests: March 7, 2014, as supplemented by letters dated September 30, 2014, December 16, 2014, January 15, 2015, and February 20, 2015.

Brief description of amendments: The amendments revised the Donald C. Cook Nuclear Plant, Units 1 and 2, Technical Specification 5.5.14, “Containment Leakage Rate Testing Program,” by adopting Nuclear Energy Institute (NEI) 94-01, Revision 3-A, “Industry Guideline for Implementing Performance-Based Option of 10 CFR part 50, Appendix J” (ADAMS Accession No. ML12221A202), and Section 4.1, “Limitations and Conditions for NEI TR 94-01, Revision 2” of the NRC Safety Evaluation Report in NEI 94-01, Revision 2-A, dated October 2008 (ADAMS Accession No. ML100620847), as the implementing document for the performance-based Option B of 10 CFR part 50, Appendix J.

Date of issuance: March 30, 2015.

Effective date: As of the date of issuance and shall be implemented within 60 days of issuance.

Amendment Nos.: 326 for Unit 1 and 309 for Unit 2. A publicly-available version is in ADAMS under Accession No. ML15072A264; documents related to this amendment are listed in the Safety Evaluation enclosed with the amendment.

Renewed Facility Operating License Nos. DPR-58 and DPR-74: Amendments revise the Renewed Facility Operating Licenses and Technical Specifications.

Date of initial notice in Federal Register: May 27, 2014 (79 FR 30188). The supplemental letters dated September 30, 2014, December 16, 2014, January 15, 2015, and February 20, 2015, provided additional information that clarified the application, did not expand the scope of the application as originally noticed, and did not change the staff's original proposed no significant hazards consideration determination as published in the Federal Register.

The Commission's related evaluation of the amendment is contained in a Safety Evaluation dated March 30, 2015.

No significant hazards consideration comments received: No.

NextEra Energy Seabrook, LLC, Docket No. 50-443, Seabrook Station, Unit No. 1, Rockingham County, New Hampshire

Date of amendment request: September 24, 2014, as supplemented by letter dated December 11, 2014.

Description of amendment request: The amendment changes the Technical Specifications (TSs) and the Facility Operating License. The change deletes the Functional Unit “Cold Leg Injection, P-15” from TS 3.3.2, “Engineered Safety Features Actuation System Instrumentation,” and changes License Condition 2.K, “Inadvertent Actuation of the Emergency Core Cooling System (ECCS).”

Date of issuance: March 31, 2015.

Effective date: As of its date of issuance, and shall be implemented within 30 days.

Amendment No.: 145. A publicly-available version is in ADAMS under Accession No. ML15002A251; documents related to this amendment are listed in the Safety Evaluation enclosed with the amendment.

Facility Operating License No. NPF-86: Amendment revised the Facility Operating License and TSs.

Date of initial notice in Federal Register: January 6, 2015, (80 FR 525).

The Commission's related evaluation of the amendment is contained in a Safety Evaluation dated March 31, 2015.

No significant hazards consideration comments received: No.

Omaha Public Power District, Docket No. 50-285, Fort Calhoun Station, Unit No. 1, Washington County, Nebraska

Date of amendment request: November 7, 2014.

Brief description of amendment: The amendment revised Technical Specification (TS) 3.1, Table 3-3, Item 3.c concerning containment wide range radiation monitors to correct a typographical error introduced in TS Amendment No. 152.

Date of issuance: March 27, 2015.

Effective date: As of the date of issuance and shall be implemented within 30 days from the date of issuance.

Amendment No.: 281. A publicly-available version is in ADAMS under Accession No. ML15035A203; documents related to this amendment are listed in the Safety Evaluation enclosed with the amendment.

Renewed Facility Operating License No. DPR-40: The amendment revised the license and Technical Specifications.

Date of initial notice in Federal Register: January 20, 2015 (80 FR 2751).

The Commission's related evaluation of the amendment is contained in a safety evaluation dated March 27, 2015.

No significant hazards consideration comments received: No.

PSEG Nuclear LLC, Docket Nos. 50-272 and 50-311, Salem Nuclear Generating Station, Unit Nos. 1 and 2, Salem County, New Jersey

Date of application for amendments: March 24, 2014.

Brief description of amendments: The amendments approved a change to revise Surveillance Requirements 4.2.1.3, 4.2.1.4, and 4.2.2.2.f associated with Power Distribution Limits Technical Specification (TS) 3/4.2.1, “Axial Flux Difference (AFD),” and TS 3/4.2.2, “Heat Flux Hot Channel Factor—FQ(Z).”

Date of issuance: March 30, 2015.

Effective date: As of the date of issuance, to be implemented within 60 days.

Amendment Nos.: 307 and 289. A publicly-available version is in ADAMS under Accession No. ML15063A293; documents related to these amendments are listed in the Safety Evaluation enclosed with the amendments.

Renewed Facility Operating License Nos. DPR-70 and DPR-75: The amendments revised the Technical Specifications and the License.

Date of initial notice in Federal Register: June 6, 2014 (79 FR 32770).

The Commission's related evaluation of the amendments is contained in a Safety Evaluation dated March 30, 2015.

No significant hazards consideration comments received: No.

South Carolina Electric & Gas Company, Docket Nos. 52-027 and 52-028, Virgil C. Summer Nuclear Station (VCSNS) Units 2 and 3, Fairfield County, South Carolina

Date of amendment request: August 5, 2014, revised by letter dated August 28, 2014, and supplemented by letter dated November 3, 2014 (Non-Public).

Description of amendment: The amendment revises the design of connections between reinforced concrete (RC) and steel plate concrete composite construction (SC) included in the VCSNS Units 2 and 3 updated Final Safety Analysis Report and changes to the Technical Report, “APP-GW-GLR-602, AP1000 Shield Building Design Details for Select Wall and RC/SC Connections,” (prepared by Westinghouse Electric Company and reviewed by the U.S. Nuclear Regulatory Commission as part of the design certification rule).

Date of issuance: December 16, 2014.

Effective date: As of the date of issuance and shall be implemented within 90 days of issuance.

Amendment No.: 21. A publicly-available version is in ADAMS under Accession No. ML14339A717; documents related to this amendment are listed in the Safety Evaluation enclosed with the amendment.

Facility Combined Licenses No. NPF-93 and NPF-94: Amendment revised the Facility Combined Licenses.

Date of initial notice in Federal Register: September 30, 2014 (79 FR 58824). The supplemental letter dated November 3, 2014, provided additional information that clarified the application, did not expand the scope of the application as originally noticed, and did not change the staff's original proposed no significant hazards consideration determination as published in the Federal Register.

The Commission's related evaluation of the amendment is contained in the Safety Evaluation dated December 16, 2014.

No significant hazards consideration comments received: No.

South Carolina Electric & Gas Company, Docket Nos. 52-027 and 52-028, Virgil C. Summer Nuclear Station (VCSNS) Units 2 and 3, Fairfield County, South Carolina

Date of amendment request: June 20, 2014, and supplemented by letter dated August 6, 2014.

Description of amendment: The amendment revises the Updated Final Safety Analysis Report in regard to Tier 2 and Tier 2* information related to fire area boundaries. These changes include: adding of three new fire zones in the middle annulus to provide fire barrier enclosures for the Class 1E Electrical Divisions B, C, and D containment penetrations; and eliminating the Class 1E Electrical Division A enclosure and making the Division A containment penetration assemblies part of the existing middle annulus fire zone.

Date of issuance: December 30, 2014.

Effective date: As of the date of issuance and shall be implemented within 90 days of issuance.

Amendment No.: 22. A publicly-available version is in ADAMS under Accession No. ML14328A233; documents related to this amendment are listed in the Safety Evaluation enclosed with the amendment.

Facility Combined Licenses No. NPF-93 and NPF-94: Amendment revised the Facility Combined Licenses.

Date of initial notice in Federal Register: October 28, 2014 (79 FR 64228).

The Commission's related evaluation of the amendment is contained in the Safety Evaluation dated December 30, 2014.

No significant hazards consideration comments received: No.

Union Electric Company, Docket No. 50-483, Callaway Plant, Unit 1, Callaway County, Missouri

Date of application for amendment: December 6, 2013, as supplemented by letters dated September 2 and December 11, 2014, and February 3, 2015.

Brief description of amendment: The amendment changed the licensing basis as described in the Final Safety Analysis Report (FSAR)-Standard Plant Section 3.6.2.1.2.4, “ASME [American Society of Mechanical Engineers] Section III and Non-Nuclear Piping-Moderate-Energy,” and FSAR-Standard Plant Table 3.6-2, “Design Comparison to Regulatory Positions of Regulatory Guide 1.46, Revision 0, dated May 1973, titled `Protection Against Pipe Whip Inside Containment,' ” in particular regard to the high-density polyethylene (HDPE) piping installed in ASME Class 3 line segments of the essential service water system. Also, new Reference 25 is added to FSAR-Standard Plant Section 3.6.3 to cite the NRC-approved version of the HDPE requirements covered by Relief Request I3R-10 dated October 31, 2008.

Date of issuance: March 31, 2015.

Effective date: As of its date of issuance and shall be implemented within 60 days from the date of issuance.

Amendment No.: 211. A publicly-available version is in ADAMS under Accession No. ML15064A028; documents related to this amendment are listed in the Safety Evaluation enclosed with the amendment.

Renewed Facility Operating License No. NPF-30: The amendment revised the Operating License.

Date of initial notice in Federal Register: March 18, 2014 (79 FR 15150). The supplements dated September 2 and December 11, 2014, and February 3, 2015, provided additional information that clarified the application, did not expand the scope of the application as originally noticed, and did not change the staff's original proposed no significant hazards consideration determination as published in the Federal Register.

The Commission's related evaluation of the amendment is contained in a Safety Evaluation dated March 31, 2015.

No significant hazards consideration comments received: No.

Dated at Rockville, Maryland, this 6th day of April 2015.
For the Nuclear Regulatory Commission.
A. Louise Lund,
Acting Director, Division of Operating Reactor Licensing, Office of Nuclear Reactor Regulation.

[FR Doc. 2015-08579 Filed 4-13-15; 8:45 am]

BILLING CODE 7590-01-P